SMALL BUSINESS ADMINISTRATION

[Declaration of Disaster #3332]

Commonwealth of Massachusetts

As a result of the President's major disaster declaration on April 10, 2001, I find that Essex, Middlesex and Norfolk Counties constitute a disaster area due to damages caused by flooding and severe storms beginning March 5, 2001 and continuing. Applications for loans for physical damage as a result of this disaster may be filed until the close of business on June 9, 2001, and for loans for economic injury until the close of business on January 9, 2002 at the address listed below or other locally announced locations: U.S. Small Business Administration, Disaster Area 1 Office, 360 Rainbow Blvd. South 3rd Fl., Niagara Falls, NY 14303.

In addition, applications for economic injury loans from small businesses located in the following contiguous counties in Massachusetts may be filed until the specified date at the above location: Bristol, Plymouth, Suffolk and Worcester; and Hillsborough and Rockingham counties in the State of New Hampshire; and Providence county in the State of Rhode Island.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The number assigned to this disaster for physical damage is 333206 and for economic injury the number is 9L4300. The number assigned for economic injury for New Hampshire is 9L4400 and for Rhode Island is 9L4500.

(Catalog of Federal Domestic Assistance Program Nos. 59002 and 59008.)

Dated: April 11, 2001.
Herbert L. Mitchell,
Associate Administrator for Disaster Assistance.

[FR Doc. 01-9599 Filed 4-17-01; 8:45 am]

BILLING CODE 8025-01-P